DEPARTMENT OF COMMERCE

International Trade Administration

[A-570-150]

Tin Mill Products From the People's Republic of China: Postponement of Final Determination in the Less-Than-Fair-Value Investigation

AGENCY: Enforcement and Compliance, International Trade Administration, Department of Commerce.

SUMMARY: The U.S. Department of Commerce (Commerce) is postponing the deadline for issuing the final determination in the less-than-fair-value (LTFV) investigation of tin mill products from the People's Republic of China (China) until January 4, 2024, and is extending the provisional measures from a four-month period to a six-month period.

DATES: Applicable September 12, 2023.

FOR FURTHER INFORMATION CONTACT: Samuel Frost, AD/CVD Operations V, Enforcement and Compliance, International Trade Administration, U.S. Department of Commerce, 1401 Constitution Avenue NW, Washington, DC 20230; telephone: (202) 482-8180.

SUPPLEMENTARY INFORMATION:

Background

On February 14, 2023, Commerce initiated an LTFV investigation of imports of tin mill products from China.¹ The period of investigation is July 1, 2022, through December 31, 2022. On August 22, 2023, Commerce published the Preliminary Determination, in which Commerce preliminarily determined that tin mill products from China are being, or are likely to be, sold in the United States at LTFV.²

¹ See Tin Mill Products from Canada, the People's Republic of China, Germany, the Netherlands, the Republic of Korea, Taiwan, the Republic of Turkey, and the United Kingdom: Initiation of Less-Than-Fair-Value Investigations, 88 FR 9481 (February 14, 2023) (Initiation Notice).

² See Tin Mill Products from the People's Republic of China: Preliminary Affirmative Determination of Sales at Less Than Fair Value and Preliminary Affirmative Determination of Critical Circumstances, 88 FR 57099 (August 22, 2023) (Preliminary Determination).

Postponement of Final Determination and Extension of Provisional Measures

Section 735(a)(2) of the Tariff Act of 1930, as amended (the Act), and 19 CFR 351.210(b)(2) provide that a final determination may be postponed until not later than 135 days after the date of the publication of the preliminary determination if, in the event of an affirmative preliminary determination, a request for such postponement is made by exporters or producers who account for a significant proportion of exports of the subject merchandise, or in the event of a negative preliminary determination, a request for such postponement is made by the petitioners.³ Further, 19 CFR 351.210(e)(2) requires that such postponement requests by exporters be accompanied by a request for extension of provisional measures from a four-month period to a period not more than six months, in accordance with section 733(d) of the Act.

³ The petitioners are Cleveland-Cliffs, Inc. and the United Steel, Paper and Forestry, Rubber, Manufacturing, Energy, Allied Industrial and Service Workers International Union.

On August 31, 2023, Shougang Jingtang United Iron & Steel Co., Ltd. (Shougang Jingtang), an exporter and producer accounting for a significant proportion of exports of subject merchandise, requested that Commerce postpone the deadline for final determination and extend the application of the provisional measures from a four-month period to a period of not more than six months.⁴ In accordance with section 735(a)(2)(A) of the Act and 19 CFR 351.210(b)(2)(ii), because: (1) the preliminary determination was affirmative; (2) the request for postponement was made by an exporter/producer who accounts for a significant proportion of exports of the subject merchandise; and (3) no compelling reasons for denial exist, Commerce is postponing the final determination until no later than 135 days after the date of publication of the Preliminary Determination, and extending the provisional measures from a four-month period to a period of not more than six months. Accordingly, Commerce will issue its final determination no later than January 4, 2024.⁵

⁴ See Shougang Jingtang's Letter, “Request to Extend Final Results,” dated August 31, 2023.

⁵ Because Commerce previously aligned the deadline for the final determination of the companion countervailing duty (CVD) investigation of tin mill products from China with the deadline for this investigation, the deadline for issuing the final determination in the CVD investigation is also January 4, 2024. See Tin Mill Products from the People's Republic of China: Preliminary Affirmative Countervailing Duty Determination, and Alignment of Final Determination with Final Antidumping Duty Determination, 88 FR 41373 (June 26, 2023).

Notification to Interested Parties

This notice is issued and published pursuant to section 735(a)(2) of the Act and 19 CFR 351.210(g).

Dated: September 6, 2023.
Lisa W. Wang,
Assistant Secretary for Enforcement and Compliance.

[FR Doc. 2023-19682 Filed 9-11-23; 8:45 am]

BILLING CODE 3510-DS-P